DEPARTMENT OF HEALTH AND HUMAN SERVICES

National Institutes of Health

Center for Scientific Review; Amended Notice of Meeting

Notice is hereby given of a change in the meeting of the National Institutes of Health Peer Review Advisory Committee, February 1, 2010, 8 a.m. to February 1, 2010, 5 p.m., Bethesda North Marriott Hotel & Conference Center, Montgomery County Conference Center Facility, 5701 Marinelli Road, North Bethesda, MD 20852 which was published in the Federal Register on November 25, 2009, 74 FR 61693.

The starting time of the meeting on February 1, 2010 has been changed to 8:15 a.m. until adjournment at 5 p.m. The meeting date and location remain the same. The meeting is open to the public.

Dated: December 8, 2009.
Jennifer Spaeth,
Director, Office of Federal Advisory Committee Policy.

[FR Doc. E9-29682 Filed 12-11-09; 8:45 am]

BILLING CODE 4140-01-P